NATIONAL SCIENCE FOUNDATION

Sunshine Act Meetings

The National Science Board's (NSB) Committee on External Engagement hereby gives notice of a change in a previously scheduled meeting for the transaction of National Science Board business pursuant to the National Science Foundation Act and the Government in the Sunshine Act.

FEDERAL REGISTER CITATION OF PREVIOUS ANNOUNCEMENT: 87 FR 52419, August 25, 2022.

PREVIOUSLY ANNOUNCED TIME AND DATE OF THE MEETING: Monday, December 12, 2022, from 5-5:30 p.m. EDT.

CHANGES IN THE MEETING: The meeting will occur on Monday, December 19, at 4-4:30 p.m. EST. The matter to be considered remains the same.

CONTACT PERSON FOR MORE INFORMATION: Point of contact for this meeting is: Chris Blair, cblair@nsf.gov, 703/292-7000.

Christopher Blair,
Executive Assistant to the National Science Board Office.

[FR Doc. 2022-26686 Filed 12-5-22; 4:15 pm]

BILLING CODE 7555-01-P